DEPARTMENT OF AGRICULTURE

Rural Utilities Service

Georgia Transmission Corporation; Notice of Finding of No Significant Impact

AGENCY: Rural Utilities Service, USDA.

ACTION: Notice of finding of no significant impact.

SUMMARY: Notice is hereby given that the Rural Utilities Service (RUS) has made a finding of no significant impact (FONSI) with respect to a request from Georgia Transmission Corporation for assistance from the RUS to finance the construction of a 230 kV transmission line in Mitchell County, Georgia.

FOR FURTHER INFORMATION CONTACT: Bob Quigel, Environmental Protection Specialist, Engineering and Environmental Staff, RUS, Stop 1571, 1400 Independence Avenue, SW., Washington, DC 20250-1571, telephone (202) 720-0468, fax (202) 720-0820, e-mail at bquigel@rus.usda.gov.

SUPPLEMENTARY INFORMATION: No comments were received by RUS via e-mail or telephone during the 30-day comment period, which closed on November 5, 2001. However, mail service to the U.S. Department of Agriculture has been disrupted during the comment period due to screening of mail for potential anthrax contamination. Any person that sent written comments on the environmental assessment through the U.S. Postal Service to RUS during the comment period should contact RUS at the telephone number listed above within 5 working days of this notice to ensure their comments are considered prior to project construction. Should RUS conclude that any written comments that may have been submitted during the official comment period warrant further review and would cause reconsideration of RUS' decision, the public would be so notified. Otherwise, this FONSI notice will serve as the final public notice of this project.

The project is to be named the Raccoon Creek Transmission Line. Georgia Transmission Corporation proposes to construct the 230 kV electric transmission line south of Albany, Georgia, in Mitchell County. The approximate length of the transmission line is 6 miles. It will traverse between Plant Mitchell located west of Route 19 near the Dougherty/Mitchell County line to the 500/230 kV Raccoon Creek Substation which is currently under development near the intersection of Jackson Darry Road and Stagecoach Road.

Copies of the FONSI are available for review at, or can be obtained from, RUS at the address provided herein or from Mr. John Lasseter, Georgia Transmission Corporation, 2100 East Exchange Place, Tucker, Georgia 30085-2088, telephone (770) 270-7710. Mr. Lasseter's e-mail address is john.lasseter@gatrans.com.

Dated: December 4, 2001.
Alfred Rodgers,
Acting Assistant Administrator, Electric Program, Rural Utilities Service.

[FR Doc. 01-30453 Filed 12-7-01; 8:45 am]

BILLING CODE 3410-15-P